DEPARTMENT OF THE INTERIOR

Fish and Wildlife Service

[FWS-R5-R-2015-N238; FXRS85510553RGO-XXX-FF05R04000]

U.S. Fish and Wildlife Service Lands in the Northeast Region; Draft Long Range Transportation Plan

AGENCY: Fish and Wildlife Service, Interior.

ACTION: Notice of availability; request for comments.

SUMMARY: We, the U.S. Fish and Wildlife Service (Service), announce the availability of a draft long-range transportation plan (LRTP) for public review and comment. The draft LRTP outlines a strategy for improving and maintaining transportation assets that provide access to Service-managed lands in the Northeast Region (Maine, New Hampshire, Vermont, Massachusetts, Rhode Island, Connecticut, New York, Pennsylvania, New Jersey, Delaware, Maryland, Virginia, and West Virginia) over the next 20 years.

DATES: To ensure our consideration of your written comments, please send them no later than April 6, 2016.

ADDRESSES: Send your comments or requests for copies of the draft LRTP for Service lands in the Northeast Region by one of the following methods.

• Agency Web site: View or download the draft document on the Web at http://www.fws.gov/northeast/refuges/roads/pdf/northeast-region-long-range-transportation-plan.pdf.

• U.S. Mail: Carl Melberg, Acting Regional Transportation Program Coordinator, Northeast Region, U.S. Fish and Wildlife Service, 300 Westgate Center Drive, Hadley, MA 01035.

• Email: carl_melberg@fws.gov. Please put the words “Draft Long Range Transportation Plan” in the subject line of your electronic mail.

FOR FURTHER INFORMATION CONTACT: Carl Melberg, Acting Regional Transportation Program Coordinator, phone: 413-253-8586; facsimile: 413-253-8468; or electronic mail: carl_melberg@fws.gov.

SUPPLEMENTARY INFORMATION:

Introduction

With this notice, we make the draft LRTP for the Northeast Region of the Service available for public review and comment. When finalized, the LRTP will apply to Service-managed lands in Maine, New Hampshire, Vermont, Massachusetts, Rhode Island, Connecticut, New York, Pennsylvania, New Jersey, Delaware, Maryland, Virginia, and West Virginia.

Background

The Fixing America's Surface Transportation Act (FAST Act) requires all Federal land management agencies to conduct long-range transportation planning in a manner that is consistent with metropolitan planning organization and state Department of Transportation planning. This LRTP was initiated within the Service to achieve the following:

• Establish a defensible structure for sound transportation planning and decision-making.

• Establish a vision, mission, goals, and objectives for transportation planning in the Service's Northeast Region.

• Implement coordinated and cooperative transportation partnerships in an effort to improve the Service's transportation infrastructure.

• Integrate transportation planning and funding for wildlife refuges and fish hatcheries into existing and future Service management plans and strategies (e.g., comprehensive conservation plans and comprehensive hatchery management plans).

• Increase awareness of Alternative Transportation Systems and associated benefits.

• Develop best management practices for transportation improvements on Service lands.

• Serve as a pilot project for the implementation of a Region-level transportation planning process within the Service.

LRTP Mission, Goals, and Objectives

Through a collaborative effort, the Service's National Wildlife Refuge System (Refuge System) and Fish and Aquatic Conservation program, in cooperation with the Division of Refuge Field Support within the Service's Northeast Region, have contributed to defining the mission, goals, and objectives presented in this document. The resulting mission, goals, and objectives are intended to provide a systematic approach to guide the process for evaluating and selecting transportation improvement for the Service lands in the Northeast Region. These guiding principles have shaped the development, conclusions, and recommendations of this LRTP.

Mission

To support the Service's mission by connecting people to fish, wildlife, and their habitats through strategic implementation of transportation programs.

Goals and Objectives

This LRTP has six categories of goals: Coordinated Opportunities; Asset Management; Safety; Environmental; Access, Mobility, and Connectivity; and Visitor Experience. Under each goal, we present distinct objectives that move us to the goal.

1. Coordinated Opportunities: The program will seek joint transportation opportunities that support the Service mission, maximize the utility of Service resources, and provide mutual benefits to the Service and external partners.

Objectives:

• Identify and increase key internal and external partnerships at the national, regional, and unit levels.

• Maximize leveraged opportunities by identifying and pursuing funding for projects of mutual interest and benefit.

• Develop best practices for external engagement that illustrates success in forming and nurturing coalitions and partnerships that support the Service's mission.

• Coordinate within Service programs, including the Refuge System, Ecological Services, Fish and Aquatic Conservation, hatcheries, and Migratory Birds during the development of regional long-range and project-level plans.

2. Asset Management: The program will operate and maintain a functional, financially sustainable, and resilient transportation network to satisfy current and future land management needs in the face of a changing climate.

Objectives:

• Use asset management principles to maintain important infrastructure at an appropriate condition level.

• Prioritize work programs through the project selection process detailed in this plan or an adaptation thereof.

• Evaluate life-cycle costs when considering new assets to determine long-term financial sustainability.

• Consider the impacts of increased climate variability in the planning and management of transportation assets.

3. Safety: The program's network will provide a superior level of safety for all users and all modes of transportation to and within Service lands.

Objectives:

• Identify safety issue “hot spots” within the Service's transportation system with the Safety Analysis Toolkit.

• Implement appropriate safety countermeasures to resolve safety issues and reduce the frequency and severity of crashes (also with the Safety Analysis Toolkit).

• Address wildlife-vehicle collisions with design solutions (Environmental Enhancements).

• Use cooperation and communication among the 4E's of safety, including engineering, education, enforcement, and emergency medical services.

4. Environmental: Transportation infrastructure will be landscape appropriate and play a key role in the improvement of environmental conditions in and around Service lands.

Objectives:

• Follow the Roadway Design Guidelines for best practices in design, planning, management, maintenance, and construction of transportation assets.

• Reduce greenhouse gas emissions and air pollutants by increasing transportation options and use of alternative fuels.

• Protect wildlife corridors, reduce habitat fragmentation, and enhance terrestrial and aquatic organism passage on and adjacent to Service lands to conserve fish, wildlife, and plant populations.

5. Access, Mobility, and Connectivity: The program will ensure that units open to public visitation have adequate transportation options for all users, including underserved, underrepresented, and mobility-limited populations.

Objectives:

• Offer a wide range of transportation modes and linkages for on and offsite access.

• Provide a clear way finding information both on and off Service lands.

• Through the Urban Wildlife Conservation Program, integrate Service transportation facilities with local community transportation systems in a way that encourages local visitation and provides economic benefits to partner and gateway communities.

• Through coordinated planning, provide context-appropriate transportation facilities that address the specific needs of local visitor groups and respect the natural setting of the refuge or hatchery.

• Address congestion issues to and within Service units.

6. Visitor Experience: The program will enhance the visitation experience through improvement and investment in the transportation network.

Objectives:

• Integrate interpretation, education, and resource stewardship principles into the transportation experience.

• Evaluate the feasibility of alternative transportation systems at all stations and implement where appropriate.

• Encourage connections with existing and planned public and private transportation services.

• Design infrastructure in such a way that highlights the landscape and not the transportation facility.

Next Steps

After this comment period ends, we will analyze the comments and address them in the form of a final LRTP.

Public Availability of Comments

Before including your address, telephone number, email address, or other personal identifying information in your comment, you should be aware that your entire comment-including your personal identifying information-may be made publicly available at any time. While you can ask us in your comment to withhold your personal identifying information from public review, we cannot guarantee that we will be able to do so.

Dated: February 4, 2016.
Deborah Rocque,
Acting Regional Director, Northeast Region.

[FR Doc. 2016-04987 Filed 3-4-16; 8:45 am]

BILLING CODE 4333-15-P